DEPARTMENT OF HEALTH AND HUMAN SERVICES

Centers for Disease Control and Prevention

[30Day-07-06BF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Assessment and Evaluation of the Role of Care Coordination (Case Management) in Improving Access and Care within the Spina Bifida Clinic System—New—National Center for Birth Defects and Developmental Disabilities (NCBDDD), Centers for Disease Control and Prevention (CDC).

Background and Brief Description

CDC is requesting a one-year approval from the Office of Management and Budget to collect information about the effectiveness of care coordination for patients with spina bifida. Studies have shown that care coordination is beneficial for individuals with complex health conditions such as cystic fibrosis and sickle cell anemia, however, the extent to which care coordination is effective for assisting individuals with spina bifida is unknown. Spina bifida is one of the most common birth defects, affecting approximately 3 per 10,000 live births in the United States annually. The proposed activity is part of the National Spina Bifida Program mandated in Section 317C of the Public Health Service Act (42 U.S.C. 247b-4).

Researchers will visit 10 spina bifida clinics nationwide. At each clinic, one focus group will be conducted with approximately eight caregivers of children with spina bifida. Each focus group will last about two hours. In addition, interviews will be conducted with approximately five staff members at each clinic; each interview will take approximately 45 minutes. Focus group and interview respondents will be asked a variety of questions related to care coordination for individuals with spina bifida including how care is coordinated in the clinic, barriers and facilitators to the provision of care coordination, the effectiveness of care coordination, and recommendations for improving care coordination.

There will be no costs to the respondents other than their time. The total estimated annualized burden hours are 244.

Estimated Annualized Burden Hours:

Type of respondents | Form name | Number of respondents | Number of reponses per respondent | Average burden per response (in hours)
Caregivers for Spina Bifida Patients | Focus Group Response Form | 100 | 1 | 5/60
| Focus Group Telephone Script | 100 | 1 | 15/60
| Focus Group Moderator's Guide | 80 | 1 | 2
Spina Bifida Clinic Staff | Clinic Recruitment Script | 14 | 1 | 15/60
| Clinic Staff Telephone Interview Script | 55 | 1 | 10/60
| Clinic Staff Interview Guide | 50 | 1 | 45/60

Dated: June 14, 2007.
Catina Conner,
Acting Assistant Reports Clearance Officer,Centers for Disease Control and Prevention.

[FR Doc. E7-11934 Filed 6-19-07; 8:45 am]

BILLING CODE 4163-18-P